ELECTION ASSISTANCE COMMISSION

Sunshine Act Notice; Notice of Public Hearing Agenda

AGENCY: U.S. Election Assistance Commission.

ACTION: Sunshine Act Notice; Notice of Public Hearing Agenda

DATE AND TIME: Tuesday, April 4, 2017, (10:00 a.m.-12:00 p.m.—EDT)

PLACE: 1335 East West Highway (First Floor Conference Room) Silver Spring, MD 20910

AGENDA: Commissioners will hold a public hearing to discuss the implications for state and local jurisdictions following the Department of Homeland Security's (DHS) recent designation of election infrastructure as a national critical infrastructure subsector. Commissioners will hear from a panel of state and local election administrators about their ideas and approaches for addressing new circumstances they expect to confront as a result of the DHS designation. Commissioners will hear from a panel of DHS officials on the implications of the critical infrastructure designation, and their work with state and local election officials to promote election security.

STATUS: This hearing will be open to the public.

PERSON TO CONTACT FOR INFORMATION: Bryan Whitener, Telephone: (301) 563-3961.

Bryan Whitener,
Director of National Clearinghouse on Elections, U.S. Election Assistance Commission.

[FR Doc. 2017-06219 Filed 3-24-17; 4:15 pm]

BILLING CODE 6820-KF-P